DEPARTMENT OF LABOR

Employment and Training Administration

[TA-W-73,488]

Hewlett Packard (HP), Global Product Development, Engineering Workstation Refresh Team, Working On-Site at General Motors Corporation, Milford, MI; Notice of Revised Determination on Reconsideration

On June 8, 2010, the Department issued a Notice of Termination of Investigation, stating that the petitioning worker group is part of an on-going investigation (TA-W-72,851). On June 30, 2010, the Department issued a Notice of Revised Termination of Investigation because the certification of TA-W-72,851 (issued on June 23, 2010) did not include workers of Hewlett Packard, and began an investigation to determine whether workers and former workers of Hewlett Packard, Global Product Development, working on-site at General Motors Corporation, Milford, Michigan, are eligible to apply for TAA.

Information obtained by the Department revealed that Hewlett Packard's Global Product Development unit consists of three separately identifiable worker groups: The Non-Information Technology Business Development Team, the Engineering Application Support Team, and the Engineering Workstation Refresh Team.

On February 2, 2011, the Department issued an amended certification of TA-W-72,851 that included workers of Hewlett Packard, Global Product Development, Non-Information Technology Business Development Team and Engineering Application Support Team, working on-site at General Motors Corporation, Milford, Michigan. Because workers of Hewlett Packard, Global Product Development, Engineering Workstation Refresh Team (HP-EWRT) are not covered by the amendment, the Department continued with the investigation.

The Department has determined that the workers of HP-EWRT, who are engaged in employment related to the supply of information technology (IT) services, meet the criteria as Suppliers for secondary worker certification.

Criterion I has been met because a significant number or proportion of the workers of HP-EWRT has become totally or partially separated, or are threatened with separation.

Criterion II has been met because workers of HP-EWRT supplied services to a firm that employed a worker group eligible to apply for TAA and the services supplied are related to the article or service that was the basis for the TAA certification.

Criterion III has been met because the loss of business by HP-EWRT with the aforementioned firm, with respect to IT services supplied to the firm, contributed importantly to subject worker separations at HP-EWRT, Milford, Michigan.

Conclusion

After careful review of the additional facts obtained on reconsideration, I determine that workers of Hewlett Packard, Global Product Development, Engineering Workstation Refresh Team, Milford, Michigan, who are engaged in employment related to the supply of information technology (IT) services, meet the worker group certification criteria under Section 222(c) of the Act, 19 U.S.C. 2272(c). In accordance with Section 223 of the Act, 19 U.S.C. 2273, I make the following certification:

“All workers of Hewlett Packard, Global Product Development, Engineering Workstation Refresh Team, working on-site at General Motors Corporation, Milford, Michigan, who became totally or partially separated from employment on or after February 9, 2009, through two years from the date of this revised certification, and all workers in the group threatened with total or partial separation from employment on date of certification through two years from the date of certification, are eligible to apply for adjustment assistance under Chapter 2 of Title II of the Trade Act of 1974, as amended.”

Signed in Washington, DC, this 4th day of February, 2011.
Del Min Amy Chen,
Certifying Officer, Office of Trade Adjustment Assistance.

[FR Doc. 2011-4096 Filed 2-23-11; 8:45 am]

BILLING CODE 4510-FN-P